FEDERAL ELECTION COMMISSION

Sunshine Act Meetings

AGENCY: Federal Election Commission

DATE AND TIME: Tuesday, August 11, 2015 at 10:00 a.m.

PLACE: 999 E Street NW., Washington, DC (Ninth Floor).

STATUS: This meeting will be open to the public.

Items To Be Discussed

Correction and Approval of Minutes for July 16, 2015

Draft Advisory Opinion 2015-03: Democracy Rules, Inc.

Draft Advisory Opinion 2015-05: Alexina Shaber

Notice to Respondents of Information Sharing by the Commission

Public Disclosure of Closed Enforcement Files

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Signed:

Shawn Woodhead Werth,
Secretary and Clerk of the Commission.

[FR Doc. 2015-19505 Filed 8-5-15; 11:15 am]

BILLING CODE 6715-01P